DEPARTMENT OF ENERGY

Federal Energy Regulatory Commission

Combined Notice of Filings #1

Correction

In notice document 2025-08354, appearing on pages 20297 through 20298 in the issue of Tuesday, May 13, 2025, make the following correction:

On page 20298, in the first column, the twenty-sixth line from the top, “Filed Date: 5/7/25.” should read, “Filed Date: 5/6/25.”

On the same page, in the same column, the twenty-eighth line from the top, “Comment Date: 5 p.m. ET 5/28/25.” should read, “Comment Date: 5 p.m. ET 5/16/25.”

[FR Doc. C1-2025-08354 Filed 5-21-25; 8:45 am]

BILLING CODE 0099-10-P